NUCLEAR REGULATORY COMMISSION

[Docket Nos. 50-321 and 50-366]

Southern Nuclear Operating Company, Inc., Edwin I. Hatch Nuclear Plant, Units 1 and 2; Notice of Receipt of Application for Renewal of Facility Operating License Nos. DPR-57 and NPF-5 for an Additional Twenty-Year Period

On March 1, 2000, the U.S. Nuclear Regulatory Commission received, by letter dated February 29, 2000, an application from Southern Nuclear Operating Company, Inc., filed pursuant to Section 104(b) and 103 of the Atomic Energy Act of 1954, as amended, and 10 CFR part 54, for renewal of Facility Operating License Nos. DPR-57 and NPF-5, which authorizes the applicant to operate Edwin I. Hatch Nuclear Plant, Units 1 and 2 (Hatch 1 and 2), for an additional 20-year period. The current operating licenses for Hatch 1 and 2 expire on August 6, 2014, and June 13, 2018, respectively. Hatch 1 and 2 are boiling-water reactors designed by General Electric and are located in Appling County, Georgia. The acceptability of the tendered application for docketing and other matters, including an opportunity to request a hearing, will be the subject of a subsequent Federal Register notice.

A copy of the application is available for public inspection at the Commission's Public Document Room, 2120 L Street, NW, Washington, DC 20037, and on the NRC website at www.nrc.gov.

Dated at Rockville, Maryland, this the third day of March, 2000.
For the Nuclear Regulatory Commission.
Christopher I. Grimes,
Chief, License Renewal and Standardization Branch, Division of Regulatory Improvement Programs, Office of Nuclear Reactor Regulation.

[FR Doc. 00-5897 Filed 3-9-00; 8:45 am]

BILLING CODE 7590-01-P